NUCLEAR REGULATORY COMMISSION

[Docket Nos. 50-498, 50-499; NRC-2010-0375]

STP Nuclear Operating Company; Notice of Receipt and Availability of Application for Renewal of South Texas Project, Units 1 and 2; Facility Operating License Nos. NPF-76 and NPF-80 for an Additional 20-Year Period

The U.S. Nuclear Regulatory Commission (NRC or Commission) has received an application, dated October 25, 2010, from STP Nuclear Operating Company, filed pursuant to Section 103 of the Atomic Energy Act of 1954, as amended, and Title 10 of the Code of Federal Regulations part 54 (10 CFR part 54), to renew the operating licenses for the South Texas Project (STP), Units 1 and 2. Renewal of the licenses would authorize the applicant to operate each facility for an additional 20-year period beyond the period specified in the respective current operating licenses. The current operating license for STP Unit 1 (NPF-76) expires on August 20, 2027. STP Unit 1 is a pressurized water reactor designed by Westinghouse. The current operating license for STP Unit 2 expires on December 15, 2028. STP Unit 2 is a pressurized water reactor designed by Westinghouse. Both units are located 12 miles south southwest of Bay City, TX. The acceptability of the tendered application for docketing, and other matters including an opportunity to request a hearing, will be the subject of subsequent Federal Register notices.

Copies of the application are available to the public at the Commission's Public Document Room (PDR), located at One White Flint North, 11555 Rockville Pike, Rockville, Maryland 20852 or through the Internet from the NRC's Agencywide Documents Access and Management System (ADAMS) Public Electronic Reading Room under Accession Number ML103010256. The ADAMS Public Electronic Reading Room is accessible from the NRC Web site at http://www.nrc.gov/reading-rm/adams.html. In addition, the application is available at http://www.nrc.gov/reactors/operating/licensing/renewal/applications.html. Persons who do not have access to the Internet or who encounter problems in accessing the documents located in ADAMS should contact the NRC's PDR reference staff at 1-800-397-4209, extension 4737, or by e-mail to pdr@nrc.gov.

A copy of the license renewal application for the STP, Units 1 and 2, is also available to local residents near the site at the Bay City Public Library, 1100 7th Street, Bay City, TX 77414.

Dated at Rockville, Maryland, this 23rd day of November, 2010.
For the Nuclear Regulatory Commission.
A. Louise Lund,
Acting Deputy Director, Division of License Renewal, Office of Nuclear Reactor Regulation.

[FR Doc. 2010-30956 Filed 12-8-10; 8:45 am]

BILLING CODE 7590-01-P